DEPARTMENT OF DEFENSE

Department of the Navy

[USN-2006-0046]

Privacy Act of 1974; System of Records

AGENCY: Department of the Navy, DoD.

ACTION: Notice to amend systems of records.

SUMMARY: The Department of the Navy is amending a system of records notice in its existing inventory of record systems subject to the Privacy Act of 1974 (5 U.S.C. 552a), as amended.

DATES: This proposed action will be effective without further notice on September 5, 2006 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: July 31, 2006.
C.R. Choate,
Alternate OSD Federal Register Liaison Officer, Department of Defense.

N05350-1

System name:

Navy Drug and Alcohol Program (April 28, 1999, 64 FR 22840).

Changes:

* * * * *

System location:

Delete entry and replace with: “Primary location: Personnel Readiness and Community Support (N151), Navy Personnel Command, 5720 Integrity Drive, Millington, TN 38055-6000. Decentralized locations: Navy Alcohol Rehabilitation Centers, Navy Alcohol Rehabilitation Departments in Naval Hospitals, Counseling and Assistance Centers, Personal Responsibility and Values Education and Training Program (Prevent) Offices, Navy Drug Screening Laboratories, and local activities to which an individual is assigned. Addresses are contained in a directory which is available from the Director, Personnel Readiness and Community Support (N151), Navy Personnel Command, 5720 Integrity Drive, Millington, TN 38055-6000.”

Categories of individuals covered by the system:

Delete entry and replace with “Navy personnel (officers and enlisted) who have been identified as drug or alcohol abusers and who are subsequently screened or referred for remedial education, outpatient counseling, or residential rehabilitation; counselors, counselor interns, and counselor applications; Navy personnel who attend the Prevent Program for preventive education; dependents and civilians where authorized, who participate in preventive and remedial education programs, outpatient counseling, and residential rehabilitation; and officer, enlisted, and civilian staff members of facilities providing drug and alcohol education, screening, counseling, rehabilitation, and drug testing.”

* * * * *

Authority for maintenance of the system:

Delete entry and replace with “10 U.S.C. 1090, Identifying and treating drug and alcohol dependence; 10 U.S.C. 5013, Secretary of the Navy; 42 U.S.C. 290dd-2; and E.O. 9397 (SSN).”

Purpose(s):

Delete first paragraph and replace with “To train, educate, identify, screen, counsel, rehabilitate, and monitor the progress of individuals in drug and alcohol abuse programs.”

Routine uses of records maintained in the system, including categories of users and the purposes of such uses:

In the third paragraph, delete “or drug abuse or obesity/compulsive overeating prevention,”.

* * * * *

System manager(s) and address:

Delete and replace with “Director, Personnel Readiness and Community Support (N151), Navy Personnel Command, 5720 Integrity Drive, Millington, TN 38055-6000.”

Notification procedure:

Delete first paragraph and replace with “Individuals seeking to determine whether this system of records contains information about themselves should address written inquiries to the Director, Personnel Readiness and Community Support (N151), Navy Personnel Command, 5720 Integrity Drive, Millington, TN 38055-6000 or to the Naval activity providing treatment. Addresses are contained in a directory which is available from the Director, Personnel Readiness and Community Support (N151), Navy Personnel Command, 5720 Integrity Drive, Millington, TN 38055-6000.”

Delete the third paragraph.

Record access procedures:

Delete first paragraph and replace with “Individuals seeking access to records about themselves contained in this system of records should address written inquiries to the Director, Personnel Readiness and Community Support (N151), Navy Personnel Command, 5720 Integrity Drive, Millington, TN 38055-6000 or to the navy activity providing treatment. Addresses are contained in a directory which is available from the Director, Personnel Readiness and Community Support (N151), Navy Personnel Command, 5720 Integrity Drive, Millington, TN 38055-6000.”

Delete the third paragraph.

* * * * *

N05350-N

System name:

Navy Drug and Alcohol Program System.

System location:

Primary location: Personnel Readiness and Community Support (N151), Navy Personnel Command, 5720 Integrity Drive, Millington, TN 38055-6000.

Decentralized locations: Navy Alcohol Rehabilitation Centers, Navy Alcohol Rehabilitation Departments in Naval Hospitals, Counseling and Assistance Centers, Personal Responsibility and Values Education and Training Program (Prevent) Offices, Navy Drug Screening Laboratories, and local activities to which an individual is assigned. Addresses are contained in a directory which is available from the Director, Personnel Readiness and Community Support (N151), Navy Personnel Command, 5720 Integrity Drive, Millington, TN 38055-6000. Navy Personnel Command (Pers-602), 5720 Integrity Drive, Millington, TN 38055-6000.

Categories of individuals covered by the system:

Navy personnel (officers and enlisted) who have been identified as drug or alcohol abusers and who are subsequently screened or referred for remedial education, outpatient counseling, or residential rehabilitation; counselors, counselor interns, and counselor applicants; Navy personnel who attend the Prevent Program for preventive education; dependents and civilians, where authorized, who participate in preventive and remedial education programs, outpatient counseling, and residential rehabilitation; and officer, enlisted, and civilian staff members of facilities providing drug and alcohol education, screening, counseling, rehabilitation, and drug testing.

Categories of records in the system:

Documentation containing demographic data, screening and assessment information, progress notes, medical and laboratory data, narrative summaries of treatment, aftercare plans, and other information pertaining to a member's participation in substance abuse education, counseling, and rehabilitation programs.

Authority for maintenance of the system:

10 U.S.C. 1090, Identifying and treating drug and alcohol dependence; 10 U.S.C. 5013, Secretary of the Navy; 42 U.S.C. 290dd-2; and E.O. 9397 (SSN).

Purpose(s):

To train, education, identify, screen, counsel, rehabilitate, and monitor the progress of individuals in drug and alcohol abuse programs.

Information is used to screen and evaluate the certified counselors, counselor interns, and counselor applicants throughout the course of their duties.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: In order to comply with the provisions of 42 U.S.C. 290dd-2, the Navy's ‘Blanket Routine Uses’ do not apply to this system of records.

Specifically, records of the identity, diagnosis, prognosis, or treatment of any client/patient, irrespective of whether or when he/she ceases to be client/patient, maintained in connection with the performance of any alcohol or drug abuse, education, training, treatment, rehabilitation, or research which is conducted, regulated, or directly or indirectly assisted by any department or agency of the United States, shall, except as provided therein, be confidential and be disclosed only for the purposes and under the circumstances expressly authorized in 42 U.S.C. 290dd-2. This statute takes precedence over the Privacy Act of 1974 in regard to accessibility of such records, except to the individual to whom the record pertains.

The content of any record may be disclosed in accordance with prior written consent of the patient with respect to whom such record is maintained, but only to such extent, under such circumstances, and for such purposes as may be allowed under such prescribed regulations.

Information from records may be released without the member's consent in the following situations:

To medical personnel to the extent necessary to meet a bona fide medical emergency.

To qualified personnel for the purpose of conducting scientific research, management audits, or program evaluation, but such personnel may not identify, directly or indirectly, any individual patient in any report of such research, audit or evaluation, or otherwise disclose patient identities in any manner.

If authorized by an appropriate order of a court of competent jurisdiction granted after applications showing good case therefore. In accessing good cause, the court shall weigh the public interest and the need for disclosure against the injury to the patient, to the physician-patient relationship, and to the treatment services. Upon the granting of such order, the court, in determining the extent to which any disclosure of all or any part of an record is necessary, shall impose appropriate safeguards against unauthorized disclosures.

The above prohibitions do not apply to any interchange of records within the Armed Forces or within those components of the Department of Veterans Affairs furnishing health care to veterans or between such components and the Armed Forces.

Policies and practices for storing, retrieving, accessing, retaining, and disposing of records in the system:

Storage:

Automated records may be stored on computer disks (both hard drive and floppy), magnetic tapes, and drums.

Manual records may be stored in paper file folders, computer printouts, microfiche, or microfilm.

Retrievability:

Name and Social Security Number.

Safeguards:

Computer facilities are located in restricted areas accessible only to authorized persons that are properly screened, cleared and trained.

Manual records and computer printouts are available only to authorized personnel having a need-to-know.

Retention and disposal:

Manual records are maintained for two years (Level I/II) or three years (Level III) and then retired to the nearest Federal Records Center. Automated records are maintained indefinitely.

System manager(s) and address:

Director, Personnel Readiness and Community Support (N151), Navy Personnel Command, 5720 Integrity Drive, Millington, TN 38055-6000.

Notification procedure:

Individuals seeking to determine whether this system of records contains information about themselves should address written inquiries to the Director, Personnel Readiness and Community Support (N151), Navy Personnel Command, 5720 Integrity Drive, Millington, TN 38055-6000 or to the naval activity providing treatment. Addresses are contained in a directory which is available from the Director, Personnel Readiness and Community Support (N151), Navy Personnel Command, 5720 Integrity Drive, Millington, TN 38055-6000.

The letter should contain full name, Social Security Number, rank/rate, military status, and signature of the requester.

Record access procedures:

Individuals seeking access to records about themselves contained in this system of records should address written inquiries to the Director, Personnel Readiness and Community Support (N151), Navy Personnel Command, 5720 Integrity Drive, Millington, TN 38055-6000 or to the naval activity providing treatment. Addresses are contained in a directory which is available from the Director, Personnel Readiness and Community Support (N151), Navy Personnel Command, 5720 Integrity Drive, Millington, TN 38055-6000.

The letter should contain full name, Social Security Number, rank/rate, military status, and signature of the requester.

Contesting record producer:

The Navy's rules for accessing records, and for contesting contents and appealing initial agency determinations are published in Secretary of the Navy Instruction 5211.5; 32 CFR part 701; or may be obtained from the system manager.

Record source categories:

DOD/DON officials; notes and documents from Service Jackets and Medical Records; and general correspondence concerning the individual.

Exemptions claimed for the system:

None.

[FR Doc. 06-6680 Filed 8-3-06; 8:45 am]

BILLING CODE 5001-06-M